DEPARTMENT OF ENERGY

Federal Energy Regulatory Commission

[Docket No. CP18-24-000]

Steel Reef Pipelines US LLC; Notice of Schedule for Environmental Review of the Saskatchewan Pipeline Project

On December 8, 2017, Steel Reef Pipelines US LLC (Steel Reef) filed an application in Docket No. CP18-24-000 requesting permission pursuant to Section 3 of the Natural Gas Act to construct, operate, and maintain certain natural gas pipeline border crossing facilities to export natural gas from the United States to Canada. The proposed project is known as the Saskatchewan Pipeline Project (Project) and is located at the Canadian border in Burke County, North Dakota. Additionally, Steel Reef requested a Presidential Permit for the Project's facilities.

On November 20, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—June 8, 2018

90-day Federal Authorization Decision Deadline—September 6, 2018

If a schedule change becomes necessary, additional notice will be provided so that the relevant agencies are kept informed of the Project's progress.

Project Description

Steel Reef's proposed Project includes border crossing facilities consisting of a 250-foot-long, 10.75-inch-diameter pipeline, a meter station, and associated appurtenant aboveground facilities. The Project would transport up to 30 million standard cubic feet per day of sour natural gas gathered from existing oil wells owned and operated by Petro Harvester Oil & Gas, LLC in Burke County, North Dakota.

Background

On January 11, 2018, the Commission issued a Notice of Intent to Prepare an Environmental Assessment for the proposed Saskatchewan Pipeline Project and Request for Comments on Environmental Issues (NOI). The NOI was sent to affected landowners; federal, state, and local government agencies; elected officials; environmental and public interest groups; other interested parties; and local libraries and newspapers.¹ In response to the NOI, the Commission received comments from the U.S. Department of Interior's Bureau of Indian Affairs regarding tribal consultation, and the North Dakota State Water Commission regarding waterbody/wetland crossing permits.

¹ Through an administrative error, the NOI was not mailed to interested Indian Tribes. On April 9, 2018, we subsequently sent the NOI to the Three Affiliated Tribes.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-24), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 26, 2018.
Kimberly D. Bose,
Secretary.

[FR Doc. 2018-09247 Filed 5-1-18; 8:45 am]

BILLING CODE 6717-01-P